DEPARTMENT OF ENERGY

[GDO Docket No. EA-455-A]

Application for Renewal of Authorization To Export Electric Energy; NS Power Energy Marketing Incorporated

AGENCY: Grid Deployment Office, Department of Energy.

ACTION: Notice of application.

SUMMARY: NS Power Energy Marketing Incorporated (the Applicant or NSP Marketing) has applied for renewed authorization to transmit electric energy from the United States to Canada pursuant to the Federal Power Act.

DATES: Comments, protests, or motions to intervene must be submitted on or before September 29, 2023.

ADDRESSES: Comments, protests, motions to intervene, or requests for more information should be addressed by electronic mail to Electricity.Exports@hq.doe.gov.

FOR FURTHER INFORMATION CONTACT: Christina Gomer, (240) 474-2403, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export. (16 U.S.C. 824a(e)). On April 10, 2023, the authority to issue such orders was delegated to the DOE's Grid Deployment Office (GDO) by Delegation Order No. S1-DEL-S3-2023 and Redelegation Order No. S3-DEL-GD1-2023.

On August 30, 2018, DOE issued Order No. EA-455 authorizing NSP Marketing to transmit electric energy from the United States to Canada as a power marketer. On June 30, 2023, NSP Marketing filed an application with DOE (Application or App.) for renewal of its export authority for an additional five-year term. App. at 1.

In its Application, NSP Marketing states it is a wholly-owned subsidiary of Nova Scotia Power Inc. (`NSPI') and that NSPI “is a wholly-owned subsidiary of Emera Incorporated (Emera). Id. Although Emera, the Applicant's parent company, owns and controls electric power generation and transmission facilities, the Applicant asserts “NSP Marketing does not own or control any electric power generation or transmission facilities and does not have a franchised electric power service area. NSP Marketing operates as a marketing company involved in, among other things, the purchase and sale of electricity in the United States as a power marketer.” Id. at 6. NSP Marketing represents that it “will purchase surplus electric energy from electric utilities and other suppliers within the United States[.]” Id. at 7. NSP Marketing also states its “export of power will not impair the sufficiency of electric power supply in the U.S.” Id.

The existing international transmission facilities to be utilized by the Applicant have been previously authorized by Presidential permits issued pursuant to Executive Order 10485, as amended, and are appropriate for open access transmission by third parties. Id. at Exhibit C.

Procedural Matters: Any person desiring to be heard in this proceeding should file a comment or protest to the Application at Electricity.Exports@hq.doe.gov. Protests should be filed in accordance with Rule 211 of the Federal Energy Regulatory Commission's (FERC) Rules of Practice and Procedure (18 CFR 385.211). Any person desiring to become a party to this proceeding should file a motion to intervene at Electricity.Exports@hq.doe.gov in accordance with FERC Rule 214 (18 CFR 385.214).

Comments and other filings concerning NSP Marketing's Application should be clearly marked with GDO Docket No. EA-455-A. Additional copies are to be provided directly to Matt Clarke, Nova Scotia Power, 1223 Lower Water St., Halifax, NS B3J 3S8 Canada, matt.clarke@nspower.ca; Jeffrey J. Jakubiak, Vinson & Elkins LLP, 1114 Avenue of the Americas, 32nd Floor, New York, NY 10036, JJakubiak@velaw.com; and Jennifer C. Mansh, Vinson & Elkins LLP, 2200 Pennsylvania Avenue NW, Suite 500 West, Washington, DC 20037, JMansh@velaw.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, on the program website at https://www.energy.gov/gdo/pending-applications-0 or by emailing Electricity.Exports@hq.doe.gov.

Signing Authority: This document of the Department of Energy was signed on August 24, 2023, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 25, 2023.
Treena V. Garrett,
Federal Register Liaison Officer, U.S. Department of Energy.

[FR Doc. 2023-18719 Filed 8-29-23; 8:45 am]

BILLING CODE 6450-01-P